DEPARTMENT OF THE TREASURY

Office of Foreign Assets Control

Sanctions Actions Pursuant to the Foreign Narcotics Kingpin Designation Act

AGENCY: Office of Foreign Assets Control, Treasury.

ACTION: Notice.

SUMMARY: The U.S. Department of the Treasury's Office of Foreign Assets Control (OFAC) is publishing the names of persons whose property and interests in property are blocked pursuant to the Foreign Narcotics Kingpin Designation Act (Kingpin Act).

DATES: OFAC's actions described in this notice were effective on May 5, 2017.

FOR FURTHER INFORMATION CONTACT: OFAC: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The list of Specially Designated Nationals and Blocked Persons (SDN List) and additional information concerning OFAC sanctions programs are available on OFAC's Web site at http://www.treasury.gov/ofac.

Notice of OFAC Actions

On May 5, 2017, OFAC's Acting Director determined that the property and interests in property of the following persons are blocked pursuant to section 805(b) of the Kingpin Act and placed them on the SDN List.

Individuals

1. PADROS DEGREGORI, Gino Dusan (a.k.a. PADROS DEGREGORI, Gino Dussan; a.k.a. “FLACO”), Lima, Peru; DOB 20 Oct 1977; alt. DOB 15 Oct 1977; POB Piura, Peru; citizen Peru; Gender Male; Passport 3096570 (Peru) issued 04 Jan 2005 expires 04 Jan 2010; alt. Passport 2395877 (Peru); RUC # 10068051059 (Peru); National ID No. 06805105-9 (Peru) (individual) [SDNTK] (Linked To: R INVER CORP S.A.C.; Linked To: G & M AUTOS S.A.C.; Linked To: SBK IMPORT S.A.C.). Designated pursuant to section 805(b)(4) of the Kingpin Act, 21 U.S.C. 1904(b)(4), for playing a significant role in international narcotics trafficking.

2. ZEGARRA MARTINEZ, Guillermo Jean Pierre, Pasaje Ismael Pozo 159, Torres De San Borja, Lima, Peru; DOB 06 Jan 1984; POB Lima, Peru; Gender Male; Passport 4085740 (Peru) issued 12 Dec 2012 expires 17 Dec 2017; Driver's License No. Q-412185038 (Peru); RUC # 10421850386 (Peru); National ID No. 42185038-6 (Peru) (individual) [SDNTK]. Designated pursuant to sections 805(b)(2) and/or (3) of the Kingpin Act, 21 U.S.C. 1904(b)(2) and/or (3), for materially assisting in, or providing financial or technological support for or to, or providing goods or services in support of, the international narcotics trafficking activities of Gino Dusan PADROS DEGREGORI, and/or directed by, or acting for or on behalf of, Gino Dusan PADROS DEGREGORI.

Entities

1. G & M AUTOS S.A.C. (a.k.a. G AND M AUTOS S.A.C.), Copacabana 162, La Molina, Lima 12, Peru; RUC # 20513664339 (Peru) [SDNTK]. Designated pursuant to section 805(b)(3) of the Kingpin Act, 21 U.S.C. 1904(b)(3), for being owned, controlled, or directed by Gino Dusan PADROS DEGREGORI.

2. R INVER CORP S.A.C., Avenida Los Precursores Numero 288 Dpto. 203 Urb. Maranga (Piso 2), San Miguel, Lima, Peru; RUC # 20562939068 (Peru) [SDNTK]. Designated pursuant to section 805(b)(3) of the Kingpin Act, 21 U.S.C. 1904(b)(3), for being owned, controlled, or directed by Gino Dusan PADROS DEGREGORI.

3. SBK IMPORT S.A.C., Calle Brigida Silva de Ochoa Numero 370, San Miguel, Lima, Peru; Avenida Los Precursores Numero 288, Urb. Maranga, San Miguel, Lima, Peru; RUC # 20520935461 (Peru) [SDNTK]. Designated pursuant to section 805(b)(3) of the Kingpin Act, 21 U.S.C. 1904(b)(3), for being owned, controlled, or directed by Gino Dusan PADROS DEGREGORI.

Dated: May 5, 2017.
Andrea M. Gacki,
Acting Director, Office of Foreign Assets Control.

[FR Doc. 2017-09972 Filed 5-16-17; 8:45 am]

BILLING CODE 4810-AL-P